DEPARTMENT OF HEALTH AND HUMAN SERVICES

Centers for Medicare & Medicaid Services

[Document Identifier CMS-10634]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by January 23, 2017.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Evaluating a Pilot Mobile Health Program; Use: CMS is supporting a pilot mobile health (mHealth) program in California, Louisiana, Ohio, and Oklahoma. The three-year mHealth project is being conducted to complement existing CMCS measurement, data collection, and reporting activities to monitor, track, and assess state's maternal and infant health efforts in Medicaid and CHIP populations. This information collection request supports the evaluation of the pilot mHealth program and will be used to assist CMS in tracking maternal and infant health outcomes in the Medicaid population. The methods used for collection and analysis of the data may be useful to states and serve to increase reporting of perinatal core set measures and monitoring and interpretation of state-level maternal and infant health efforts. Results from the evaluation will help CMS understand the usefulness of mobile technology for conveying health information to pregnant women and new mothers enrolled in Medicaid/CHIP, as well as the influence this information has on health behaviors and outcomes. Form Number: CMS-10634 (OMB control number: 0938-New); Frequency: Once; Affected Public: Individuals and households, Business or other for-profits and Not-for-profits institutions, State, local, or Tribal Governments; Number of Respondents: 1,679; Total Annual Responses: 1,679; Total Annual Hours: 962. (For policy questions regarding this collection contact Lekisha Daniel-Robinson at 410-786-8618.)

Dated: December 20, 2016.
William N. Parham, III,
Director, Paperwork Reduction Staff, Office of Strategic Operations and Regulatory Affairs.

[FR Doc. 2016-31029 Filed 12-22-16; 8:45 am]

BILLING CODE 4120-01-P